ENVIRONMENTAL PROTECTION AGENCY

[EPA-HQ-OPP-2017-0008; FRL-9970-49]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before January 16, 2018.

ADDRESSES: Submit your comments, identified by the Docket Identification (ID) Number and the File Symbol of interest as show in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090; email address: RDFRNotices@epa.gov. The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

III. New Uses

1. EPA Registration Number: 100-936, 100-938, 100-941, 100-1147, 100-1291, 100-1458. Docket ID number: EPA-HQ-OPP-2017-0234. Applicant: Syngenta Crop Protection, LLC, P.O. Box 18300, Greensboro, NC 27419. Active ingredient: Thiamethoxam. Product type: Insecticide. Proposed Use: Foliar application to wheat, barley, corn, sorghum, alfalfa, rice, and potato. Contact: RD.

2. EPA Registration Numbers: 524-591 and 66478-1. Docket ID number: EPA-HQ-OPP-2017-0235. Applicant: Monsanto Company, 800 N. Lindbergh Blvd., St. Louis, Missouri 63167. Active ingredient: Acetochlor. Product type: Herbicide. Proposed use: Alfalfa. Contact: RD.

3. EPA Registration Number: 91274-1. Docket ID number: EPA-HQ-OPP-2017-0508. Applicant: IGI, LLC, 600 West Taddel Road Acampo, CA 95220. Active ingredient: Carbon Dioxide. Product type: Rodenticide. Proposed Uses: Treatment of burrows of voles, gophers, wood chucks, and ground squirrels. Contact: RD.

4. EPA Registration Numbers: 92198-R. Docket ID Number: EPA-HQ-OPP-2017-0529. Applicant: All In One Medical, Enterprise Drive Four Ashes, Wolverhampton WV10 7DF, United Kingdom. (Represented by Exponent, 1150 Constitution Ave. NW, Washington DC). Active Ingredient: DDAC. Product Type: Antimicrobial End-Use Product. Proposed Uses: Materials preservative for non-clothing textiles. Contact: AD

5. File Symbol: 7F8592. EPA Registration Numbers: 100-759 and 100-1308. Docket ID number: EPA-HQ-OPP-2017-0538. Applicant: Syngenta Crop Protection, LLC 410 Swing Road, Greensboro, NC 27409. Active ingredient: Fludioxonil. Product type: Fungicide. Proposed use: Post-harvest sugar beet. Contact: RD.

6. EPA Registration Numbers: 59639-97, 59639-193, 59639-206 and 59639-207. Docket ID Number: EPA-HQ-OPP-2017-0333. Applicant: Valent U.S.A. Corporation, 1600 Riviera Ave., Suite 200, Walnut Creek, CA 94596. Active Ingredient: Flumioxazin. Product Type: Herbicide. Proposed Uses: Grass grown for seeds. Contact: RD.

7. EPA Registration Numbers: 62719-73, 62719-80, and 62719-81. Docket ID number: EPA-HQ-OPP-2017-0035. Applicant: Dow AgroSciences LLC, 9330 Zionsville Road, Indianapolis, IN 46268. Active ingredient: Clopyralid. Product type: Herbicide. Proposed Uses: Pear and Radish Contact: RD.

8. EPA Registration Number: 62719-285. Docket ID number: EPA-HQ-OPP-2017-0226. Applicant: Dow AgroSciences LLC, 9330 Zionsville Road, Indianapolis, IN 46268. Active ingredient: Fluroxypyr 1-methylheptyl ester. Product type: Herbicide. Proposed use: Formulation of end-use products used on teff. Contact: RD.

9. EPA Registration Number: 62719-559. Docket ID number: EPA-HQ-OPP-2017-0226. Applicant: Dow AgroSciences LLC, 9330 Zionsville Road, Indianapolis, IN 46268. Active ingredient: Florasulam. Product type: Herbicide. Proposed use: Formulation of end-use products used on teff. Contact: RD.

10. EPA Registration Number: 62719-567. Docket ID number: EPA-HQ-OPP-2017-0226. Applicant: Dow AgroSciences LLC, 9330 Zionsville Road, Indianapolis, IN 46268. Active ingredient: Pyroxsulam. Product type: herbicide. Proposed use: Formulation of end-use products used on teff. Contact: RD.

11. EPA Registration Number: 62719-582. Docket ID number: EPA-HQ-OPP-2017-0226. Applicant: Dow AgroSciences LLC, 9330 Zionsville Road, Indianapolis, IN 46268. Active ingredients: Florasulam, fluroxypyr 1-methylheptyl ester, and pyroxsulam. Product type: Herbicide. Proposed use: Special Local Needs (24(c)) use on teff to control broadleaf weeds. Contact: RD.

12. EPA Registration Number: 62719-664. Docket ID number: EPA-HQ-OPP-2017-0511. Applicant: Dow AgroSciences LLC, 9330 Zionsville Road, Indianapolis, IN 46268. Active ingredient: Halauxifen-methyl. Product type: Herbicide. Proposed use: Formulation into end-use products used on turf. Contact: RD.

13. EPA Registration Numbers: 63588-91 and 63588-92. Docket ID Number: EPA-HQ-OPP-2017-0334. Applicant: K-I Chemical USA, Inc., 11 Martine Ave., Suite 970, White Plains, NY 10606. Active Ingredient: Pyroxasulfone. Product Type: Herbicide. Proposed Uses: Leaf petiole vegetable subgroup 22B; Cottonseed subgroup 20C; Peppermint, oil; Peppermint, tops; Spearmint, oil; Spearmint, tops; Soybean, vegetable, succulent and Grass grown for seeds. Contact: RD.

14. EPA Registration Numbers: 59639-206 and 59639-193. Docket ID Number: EPA-HQ-OPP-2017-0334. Applicant: Valent U.S.A. Corporation, 1600 Riviera Ave., Suite 200, Walnut Creek CA 94596. Active Ingredient: Pyroxasulfone. Product Type: Herbicide. Proposed Uses: Grass grown for seeds. Contact: RD.

15. File Symbol: 62719-TEN. Docket ID number: EPA-HQ-OPP-2017-0511. Applicant: Dow AgroSciences LLC, 9330 Zionsville Road. Active ingredients: Halauxifen-methyl and florasulam. Product type: Herbicide. Proposed use: Turf. Contact: RD.

16. File Symbol: 62719-TEU. Docket ID number: EPA-HQ-OPP-2017-0511. Applicant: Dow AgroSciences LLC, 9330 Zionsville Road. Active ingredients: Halauxifen-methyl, 2,4-D choline salt, and fluroxypyr 1 methylheptyl ester. Product type: Herbicide. Proposed use: Turf. Contact: RD.

Authority: 7 U.S.C. 136 et seq.

Dated: November 14, 2017.
Hamaad Syed,
Acting Director, Information Technology and Resources Management Division, Office of Pesticide Programs.

[FR Doc. 2017-27092 Filed 12-14-17; 8:45 am]

BILLING CODE 6560-50-P